DEPARTMENT OF THE TREASURY

Alcohol and Tobacco Tax and Trade Bureau

Proposed Information Collections; Comment Request

AGENCY: Alcohol and Tobacco Tax and Trade Bureau; Treasury.

ACTION: Notice and request for comments.

SUMMARY: As part of our continuing effort to reduce paperwork and respondent burden, and as required by the Paperwork Reduction Act of 1995, we invite comments on the proposed or continuing information collections listed below in this notice.

DATES: We must receive your written comments on or before August 8, 2011.

ADDRESSES: You may send comments to Mary A. Wood, Alcohol and Tobacco Tax and Trade Bureau, at any of these addresses:

• P.O. Box 14412, Washington, DC 20044-4412;

• 202-453-2686 (facsimile); or

• formcomments@ttb.gov (e-mail).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-453-2265.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms and recordkeeping requirements:

Title: Collection Information Statement for Individuals, and Collection Information Statement for Businesses.

OMB Control Number: 1513-XXXX (To be assigned).

TTB Form Numbers: 5600.17 and 5600.18, respectively.

Abstract: TTB F 5600.17 is used to collect financial information from individuals, and TTB F 5600.18 is used to collect financial information from businesses. When an industry member cannot pay their assessed Federal excise tax all at one time, they complete the applicable form(s) to identify their income, taxes, and other expenses necessary to run their home and/or business. TTB uses this information to determine how much the industry member can afford to pay over time until the taxes are paid in full and to set up an installment agreement.

Current Actions: TTB F 5600.17 and TTB F 5600.18 are presently issued under OMB control number 1513-0054. TTB plans to improve the format of these forms and make them easier to follow by allowing more space to enter responses and grouping like information together. Also, we plan to add instructions to clarify when certain signatures are required and make other minor revisions. Once the revisions are complete, we are asking that OMB approve the revised forms and assign them a different control number. We will submit a request to delete these forms from OMB control number 1513-0054 to alleviate duplication. We are submitting this information collection as a new collection.

Type of Review: New collection.

Affected Public: Individuals or households, Business or other for-profit.

Estimated Number of Respondents: 20.

Estimated Total Annual Burden Hours: 60.

Title: Applications—Volatile Fruit-Flavor Concentrate Plants, TTB REC 5520/2.

OMB Control Number: 1513-0006.

TTB Form Number: 5520.3.

TTB Recordkeeping Requirement Number: 5520/2.

Abstract: Persons who wish to establish premises to manufacture volatile fruit-flavor concentrates are required to file an application to do so using TTB F 5520.3. TTB uses the application information to identify persons responsible for such manufacture since these products contain ethyl alcohol and have potential for use as alcoholic beverages with consequent loss of revenue. The application constitutes registry of a still, a statutory requirement. The record retention requirement for this information collection is 3 years.

Current Actions: We are submitting this information collection for extension purposes only. The information collection, estimated number of respondents, and estimated total annual burden hours remain unchanged.

Type of Review: Extension of a currently approved collection.

Affected Public: Business or other for-profit.

Estimated Number of Respondents: 80.

Estimated Total Annual Burden Hours: 160.

Title: Formula and Process for Nonbeverage Product.

OMB Number: 1513-0021.

TTB Form Number: 5154.1.

Abstract: Businesses using taxpaid distilled spirits to manufacture nonbeverage products may receive drawback (i.e., a refund or remittance) of tax, if they can show that the spirits were used in the manufacture of products unfit for beverage use. This showing is based on the formula for the product, which is submitted on TTB F 5154.1.

Current Actions: We are submitting this information collection for extension purposes only. The information collection, estimated number of respondents, and estimated total annual burden hours remain unchanged.

Type of Review: Extension of a currently approved collection.

Affected Public: Business or other for-profit.

Estimated Number of Respondents: 611.

Estimated Total Annual Burden Hours: 2,444.

Title: Annual Report of Concentrate Manufacturers, and Usual and Customary Business Records—Volatile Fruit-Flavor Concentrate, TTB REC 5520/1.

OMB Number: 1513-0022.

TTB Form Number: 5520.2.

TTB Recordkeeping Requirement Number: 5520/1.

Abstract: Manufacturers of volatile fruit-flavor concentrate must provide reports as necessary to ensure the protection of the revenue. The report accounts for all concentrates manufactured, removed, or treated so as to be unfit for beverage use. The information is required to verify that alcohol is not being diverted, thereby jeopardizing tax revenues.

Current Actions: We are submitting this information collection for extension purposes only. The information collection, estimated number of respondents, and estimated total annual burden hours remain unchanged.

Type of Review: Extension of a currently approved collection.

Affected Public: Business or other for-profit.

Estimated Number of Respondents: 80.

Estimated Total Annual Burden Hours: 27.

Title: Claim—Alcohol, Tobacco, and Firearms Taxes.

OMB Control Number: 1513-0030.

TTB Form Number: 5620.8.

Abstract: This form, along with other supporting documents, is used to obtain credit, remission, and allowance of Federal excise tax on taxable articles (alcohol, beer, tobacco products, firearms, and ammunition) that have been lost, and to obtain refund of overpaid taxes and abatement of over assessed taxes. It is also used to request a drawback of tax paid on distilled spirits used in the production of nonbeverage products.

Current Actions: We are submitting this information collection for extension purposes only. The information collection, estimated number of respondents, and estimated total annual burden hours remain unchanged.

Type of Review: Extension of a currently approved collection.

Affected Public: Business or other for-profit, Individuals or households, Not-for-profit institutions.

Estimated Number of Respondents: 10,000.

Estimated Total Annual Burden Hours: 10,000.

Title: Report of Wine Premises Operations.

OMB Control Number: 1513-0053.

TTB Form Number: 5120.17.

Abstract: TTB F 5120.17 is used to monitor wine operations, to ensure collection of the Federal excise tax on wine, and to ensure wine is produced in accordance with Federal law and regulations. This report also provides raw data on wine premises activity.

Current Actions: We are amending this form to provide for quarterly reporting. The regulatory requirement for quarterly reporting already exists, and we are updating the form to provide a place for that reporting. We are allowing quarterly reporting to be entered in the space provided for monthly reporting until the form is amended. We are submitting this information collection as a revision.

Type of Review: Revision of a currently approved collection.

Affected Public: Business or other for-profit.

Estimated Number of Respondents: 3,329.

Estimated Total Annual Burden Hours: 29,616.

Title: Offer in Compromise of Liability Incurred under the Provisions of Title 26 U.S.C. Enforced and Administered by the Alcohol and Tobacco Tax and Trade Bureau, Collection Information Statement for Individuals, and Collection Information Statement for Businesses.

OMB Control Number: 1513-0054.

TTB Form Numbers: 5640.1, 5600.17, and 5600.18, respectively.

Abstract: TTB F 5640.1 is used by persons who wish to compromise criminal and/or civil penalties for violations of the Internal Revenue Code. If accepted, the offer in compromise is a settlement between the Government and the party in violation, in lieu of legal proceedings or prosecution. TTB F 5640.1 identifies the party making the offer, the violation(s), the amount of the offer, and the circumstances concerning the violation(s). TTB F 5600.17 is used to collect financial information from individuals and TTB F 5600.18 is used to collect financial information from businesses. When an industry member cannot pay their assessed tax all at one time, they complete the applicable form(s) to identify their income, taxes, and other expenses necessary to run their home and/or business. TTB uses this information to determine how much the industry member can afford to pay over time until the taxes are paid in full and to set up an installment agreement.

Current Actions: We are submitting this information collection for extension purposes only. The information collection, estimated number of respondents, and estimated total annual burden hours remain unchanged.

Type of Review: Extension of a currently approved collection.

Affected Public: Individuals or households, Business or other for-profit.

Estimated Number of Respondents: 60.

Estimated Total Annual Burden Hours: 140.

Title: Offer in Compromise of Liability Incurred under the Federal Alcohol Administration Act, as amended.

OMB Control Number: 1513-0055.

TTB Form Number: 5640.2.

Abstract: Persons who have committed violations of the Federal Alcohol Administration Act may submit an offer in compromise. The offer is a request by the party in violation to compromise penalties for the violations in lieu of civil or criminal action. TTB F 5640.2 identifies the violation(s) to be compromised by the person committing them, amount of offer, plus justification for acceptance.

Current Actions: We are submitting this information collection for extension purposes only. The information collection, estimated number of respondents, and estimated total annual burden hours remain unchanged.

Type of Review: Extension of a currently approved collection.

Affected Public: Business or other for-profit.

Estimated Number of Respondents: 12.

Estimated Total Annual Burden Hours: 24.

Title: Wholesale Dealers Records of Receipt of Alcoholic Beverages, Disposition of Distilled Spirits, and Monthly Summary Report, TTB REC 5170/2.

OMB Number: 1513-0065.

TTB Recordkeeping Requirement Number: 5170/2.

Abstract: TTB uses these records and reports as an accounting tool to ensure protection of the revenue. Records of receipt and disposition are the basic documents that describe the activities of wholesale dealers, and they provide an audit trail of taxable commodities from point of production to point of sale. Records of disposition are required only for distilled spirits. TTB requires the monthly report only in exceptional circumstances to ensure that a particular wholesale dealer is maintaining the required records. The records retention requirement is 3 years.

Current Actions: We are submitting this information collection for extension purposes only. The information collection, estimated number of respondents, and estimated total annual burden hours remain unchanged.

Type of Review: Extension of a currently approved collection.

Affected Public: Business or other for-profit.

Estimated Number of Respondents: 50.

Estimated Total Annual Burden Hours: 1,200.

Title: Marks on Wine Containers, TTB REC 5120/3.

OMB Number: 1513-0092.

TTB Recordkeeping Requirement Number: 5120/3.

Abstract: TTB requires that wine on wine premises be identified by statements of information included on labels and tanks. TTB uses this information to validate the receipt of excise tax revenue by the Federal government. TTB believes that affected wine industry members do not expend any effort in marking wine containers. Manufacturers place this information on their containers even in the absence of marking requirements. The record retention period is only required as long as the container is used for storing wine.

Current Actions: We are submitting this information collection for extension purposes only. The information collection, estimated number of respondents, and estimated total annual burden hours remain unchanged.

Type of Review: Extension of a currently approved collection.

Affected Public: Business or other for-profit.

Estimated Number of Respondents: 1,560.

Estimated Total Annual Burden Hours: 1 (one).

Title: Firearms and Ammunition Excise Tax Return.

OMB Number: 1513-0094.

TTB Form Number: 5300.26.

Abstract: This information is needed to determine how much Federal excise tax is owed for firearms and ammunition. TTB uses this information to verify that a taxpayer has correctly determined and paid tax liability on the sale or use of firearms and ammunition. Businesses, including small to large, and individuals may be required to use this form.

Current Actions: We are submitting this information collection for extension purposes only. The information collection, estimated number of respondents, and estimated total annual burden hours remain unchanged.

Type of Review: Extension of a currently approved collection.

Affected Public: Business or other for-profit; Individuals or households.

Estimated Number of Respondents: 965.

Estimated Total Annual Burden Hours: 27,020.

Title: Administrative Remedies—Closing Agreements.

OMB Number: 1513-0099.

Abstract: This is a written agreement between TTB and regulated taxpayers used to finalize and resolve certain tax related issues. Once an agreement is approved, it will not be reopened unless fraud or misrepresentation of material facts is proven.

Current Actions: We are submitting this information collection for extension purposes only. The information collection, estimated number of respondents, and estimated total annual burden hours remain unchanged.

Type of Review: Extension of a currently approved collection.

Affected Public: Business or other for-profit.

Estimated Number of Respondents: 1 (one).

Estimated Total Annual Burden Hours: 1 (one).

Title: Marks and Notices on Packages of Tobacco Products, TTB REC 5210/13.

OMB Control Number: 1513-0101.

TTB Recordkeeping Requirement Number: 5210/13.

Abstract: TTB requires that manufacturers or exporters place a mark and notice indicating a product's tax classification and quantity on packages, cases, or containers. TTB uses this information to validate the receipt of Federal excise tax revenue, to determine tax liability, and to verify claims. TTB believes that affected tobacco industry members do not expend any effort in marking their containers.

Current Actions: We are submitting this information collection for extension purposes only. The information collection, estimated number of respondents, and estimated total annual burden hours remain unchanged.

Type of Review: Extension of a currently approved collection.

Affected Public: Business or other for-profit.

Estimated Number of Respondents: 120.

Estimated Total Annual Burden Hours: 1 (one).

Title: Tobacco Bond—Collateral, and Tobacco Bond—Surety.

OMB Number: 1513-0103.

TTB Form Numbers: 5200.25 and 5200.26, respectively.

Abstract: TTB requires a corporate surety bond or a collateral bond to ensure payment of the Federal excise tax on tobacco products and cigarette papers and tubes removed from the factory or warehouse. TTB F 5200.25 and TTB F 5300.26 identify the agreement to pay and the persons from which TTB will attempt to collect any unpaid excise tax. Manufacturers of tobacco products or cigarette papers and tubes and proprietors of export warehouses, along with corporate sureties, if applicable, are the respondents for these TTB forms. These forms are filed with collateral sufficient to cover the excise tax on tobacco products and cigarette paper and tubes.

Current Actions: We are submitting this information collection for extension purposes only. The information collection, estimated number of respondents, and estimated total annual burden hours remain unchanged.

Type of Review: Extension of a currently approved collection.

Affected Public: Business or other for-profit.

Estimated Number of Respondents: 15.

Estimated Total Annual Burden Hours: 25.

Title: Certification of Proper Cellar Treatment for Imported Natural Wine.

OMB Number: 1513-0119.

Abstract: TTB requires importers of natural wine to certify compliance with proper cellar treatment standards. This certification is necessary to comply with statutory requirements.

Current Actions: We are submitting this information collection for extension purposes only. The information collection, estimated number of respondents, and estimated total annual burden hours remain unchanged.

Type of Review: Extension of a currently approved collection.

Affected Public: Business or other for-profit.

Estimated Number of Respondents: 4,000.

Estimated Total Annual Burden Hours: 6,600.

Dated: June 3, 2011.
Angela M. Jeffries,
Deputy Director, Regulations and Rulings Division.

[FR Doc. 2011-14284 Filed 6-8-11; 8:45 am]

BILLING CODE 4810-31-P